DEPARTMENT OF AGRICULTURE

Animal and Plant Health Inspection Service

7 CFR Part 319

[Docket No. APHIS-2016-0051]

RIN 0579-AE31

Importation of Campanula spp. Plants for Planting in Approved Growing Media From Denmark Into the United States

AGENCY: Animal and Plant Health Inspection Service, USDA.

ACTION: Final rule.

SUMMARY: We are amending the regulations governing the importation of plants for planting by authorizing the importation of Campanula spp. plants for planting from Denmark in approved growing media into the United States, subject to a systems approach. The systems approach will include measures that are currently specified in the regulations as generally applicable to all plants for planting authorized importation into the United States in approved growing media. This action will allow for the importation of Campanula spp. plants for planting from Denmark in approved growing media, while providing protection against the introduction of plant pests.

DATES: Effective April 16, 2018.

FOR FURTHER INFORMATION CONTACT: Dr. Narasimha Samboju, Senior Regulatory Policy Specialist, Plants for Planting Policy, PPQ, APHIS, 4700 River Road, Unit 133, Riverdale, MD 20737-1236; (301) 851-2038.

SUPPLEMENTARY INFORMATION:

Background

The regulations in 7 CFR part 319 prohibit or restrict the importation of certain plants and plant products into the United States to prevent the introduction of quarantine plant pests. The regulations contained in “Subpart—Plants for Planting,” §§ 319.37 through 319.37-14 (referred to below as the regulations), prohibit or restrict, among other things, the importation of living plants, plant parts, and seeds for propagation or planting.

The regulations differentiate between prohibited articles and restricted articles. Prohibited articles are plants for planting whose importation into the United States is not authorized due to the risk the articles present of introducing or disseminating plant pests. Restricted articles are articles that may be imported into the United States, provided that the articles are subject to measures to address the associated risks.

Conditions for the importation into the United States of restricted articles in growing media are found in § 319.37-8. In § 319.37-8, the introductory text in paragraph (e) lists taxa of restricted articles that may be imported into the United States in approved growing media, subject to the provisions of a systems approach. Paragraph (e)(1) lists the approved growing media, while paragraph (e)(2) contains the provisions of the systems approach. Within paragraph (e)(2), paragraphs (i) through (viii) contain provisions that are generally applicable to all the taxa listed in the introductory text of paragraph (e), while paragraphs (ix) through (xiii) contain additional, taxon-specific provisions.

In response to a request from the national plant protection organization (NPPO) of Denmark, we prepared a pest risk assessment (PRA) in order to analyze the plant pest risks associated with the importation of Campanula spp. plants for planting in approved growing media from Denmark into the United States. The PRA identified 10 quarantine pests that could be introduced into the United States through the importation of Campanula spp. plants for planting from Denmark in approved growing media. Based on the findings of the PRA, we prepared a risk management document (RMD) to determine whether phytosanitary measures exist that would address the quarantine plant pest risk. The RMD found that the mitigations currently specified in § 319.37-8, paragraphs (e)(2)(i) through (viii), that are generally applicable to the importation of all restricted articles authorized importation into the United States in approved growing media will mitigate the risk associated with the importation of Campanula spp. plants for planting in approved growing media from Denmark into the United States.

Accordingly, on June 20, 2017, we published in the Federal Register (82 FR 28015-28017, Docket No. APHIS-2016-0051) a proposal ¹ to amend the regulations by adding Campanula spp. plants for planting from Denmark to the list of taxa authorized importation into the United States in approved growing media in accordance with the requirements of § 319.37-8(e).

¹ To view the proposed rule, supporting documents, and the comments we received, go to https://www.regulations.gov/docket?D=APHIS-2016-0051.

We solicited comment concerning our proposal for 60 days ending August 21, 2017. We received two comments by that date. They were from a private citizen and a State department of agriculture. One commenter was generally opposed to the importation of Campanula spp. from Denmark, but did not offer any specific concerns or objections to be addressed.

One commenter stated that, although the approved growing media effectively mitigates the movement of arthropods occurring with the soil, it does not address the potential movement of the other quarantine plants pests identified in the PRA: The leafminers, Liriomyza buhri Hering, L. strigata (Meigen) and Phytomyza campanulae Hendel; the whitefly, Aleyrodes lonicerae; the aphids, Aphis psammophila Szelegiewicz, Uroleucon campanulae (Kaltenbach), U. nigrocampanulae (Theobald), and U. rapunculoidis (Börner); the thrips, Thrips major Uzel; and the mollusk, Arianta arbustorum (L.). The commenter suggested that a systems approach would not be enough to mitigate the risks associated with these plant pests as some have the potential to evade detection during inspection, and that an introduction of any of these pests would result in major eradication efforts that would have severe economic impacts on Florida's agricultural industry. Because of this, the commenter recommended that shipments of Campanula spp. plants from Denmark not be allowed into Florida.

As explained in the RMD (Appendix 1), the pests specifically referenced by the commenter will be mitigated by the systems approach. Inspections will be conducted in concert with required greenhouse operating procedures that will include specific sanitary measures and pest exclusionary mechanisms that have proven to effectively mitigate the risks associated with these plant pests. The commenter did not provide any evidence suggesting that the mitigations are not effective. Therefore, we are not taking the action suggested by the comment.

Therefore, for the reasons given in the proposed rule and in this document, we are adopting the proposed rule as a final rule, without change.

Executive Orders 12866 and 13771 and Regulatory Flexibility Act

This final rule has been determined to be not significant for the purposes of Executive Order 12866 and, therefore, has not been reviewed by the Office of Management and Budget. Further, because this rule is not significant, it is not a regulatory action under Executive Order 13771. In accordance with 5 U.S.C. 604, we have performed a final regulatory flexibility analysis, which is summarized below, regarding the economic effects of this rule on small entities. Copies of the full analysis are available by contacting the person listed under FOR FURTHER INFORMATION CONTACT or on the Regulations.gov website (see ADDRESSES above for instructions for accessing Regulations.gov).

The Animal and Plant Health Inspection Service (APHIS) is amending the regulations in 7 CFR 319.37-8 to allow the importation of Campanula spp. plants in growing media. Such plants are generally imported bare-rooted into the United States, and are rooted and potted for sale by U.S. nurseries. The final rule will expand potted Campanula spp. imports from Denmark by eliminating the requirement that growing media be removed.

In 2014, U.S. production of potted Campanula spp. plants was valued at $683,000. The Small Business Administration (SBA) small-entity standard for entities involved in floriculture production is $750,000 or less in annual receipts. It is probable that most domestic producers of potted Campanula spp. plants are small entities by the SBA standard.

The NPPO of Denmark estimates that shipments of Campanula spp. plants in growing media to the United States may total $5-10 million annually, that is, the volume could reach a level higher than domestic U.S. production. However, we do not have information on existing U.S. import levels that would give this comparison appropriate perspective.

Although the rule could theoretically enable Denmark-based exporters to bypass U.S. growers altogether and provide finished plants directly to retailers, it is less likely because flowering potted plants tend to be more sensitive to shipping conditions. Consequently, it is more likely that the Danish growers will continue to export immature plants to U.S. growers who will then grow them out for sale as finished plants, but with a higher success rate and shorter market delay than under current regulations. U.S. growers who import Campanula spp. plants from Denmark may benefit directly from the rule, if the resulting finished plants have a higher market value.

Executive Order 12988

This final rule has been reviewed under Executive Order 12988, Civil Justice Reform. This rule: (1) Preempts all State and local laws and regulations that are inconsistent with this rule; (2) has no retroactive effect; and (3) does not require administrative proceedings before parties may file suit in court challenging this rule.

National Environmental Policy Act

An environmental assessment and finding of no significant impact have been prepared for this final rule. The environmental assessment provides a basis for the conclusion that the importation of Campanula spp. plants for planting in approved growing media from Denmark under the conditions specified in this rule will not have a significant impact on the quality of the human environment. Based on the finding of no significant impact, the Administrator of the Animal and Plant Health Inspection Service has determined that an environmental impact statement need not be prepared.

The environmental assessment and finding of no significant impact were prepared in accordance with: (1) The National Environmental Policy Act of 1969 (NEPA), as amended (42 U.S.C. 4321 et seq.), (2) regulations of the Council on Environmental Quality for implementing the procedural provisions of NEPA (40 CFR parts 1500-1508), (3) USDA regulations implementing NEPA (7 CFR part 1b), and (4) APHIS' NEPA Implementing Procedures (7 CFR part 372).

The environmental assessment and finding of no significant impact may be viewed on the Regulations.gov website (see footnote 1). Copies of the environmental assessment and finding of no significant impact are also available for public inspection at USDA, Room 1141, South Building, 14th Street and Independence Avenue SW, Washington, DC, between 8 a.m. and 4:30 p.m., Monday through Friday, except holidays. Persons wishing to inspect copies are requested to call ahead on (202) 799-7039 to facilitate entry into the reading room. In addition, copies may be obtained by writing to the individual listed under FOR FURTHER INFORMATION CONTACT.

Paperwork Reduction Act

In accordance with section 3507(d) of the Paperwork Reduction Act of 1995 (44 U.S.C. 3501 et seq.), the information collection requirements included in this final rule, which were filed under 0579-0463, have been submitted for approval to the Office of Management and Budget (OMB). When OMB notifies us of its decision, if approval is denied, we will publish a document in the Federal Register providing notice of what action we plan to take.

E-Government Act Compliance

The Animal and Plant Health Inspection Service is committed to compliance with the EGovernment Act to promote the use of the internet and other information technologies, to provide increased opportunities for citizen access to Government information and services, and for other purposes. For information pertinent to E-Government Act compliance related to this rule, please contact Ms. Kimberly Hardy, APHIS' Information Collection Coordinator, at (301) 851-2483.

List of Subjects in 7 CFR Part 319

Coffee, Cotton, Fruits, Imports, Logs, Nursery stock, Plant diseases and pests, Quarantine, Reporting and recordkeeping requirements, Rice, Vegetables.

Accordingly, we are amending 7 CFR part 319 as follows:

PART 319—FOREIGN QUARANTINE NOTICES

1. The authority citation for part 319 continues to read as follows:

Authority: 7 U.S.C. 450 and 7701-7772 and 7781-7786; 21 U.S.C. 136 and 136a; 7 CFR 2.22, 2.80, and 371.3.

2. Section 319.37-8 is amended as follows:

a. In paragraph (e) introductory text, by adding, in alphabetical order, an entry for “Campanula spp. from Denmark”; and

b. By revising the OMB citation at the end of the section.

The revision reads as follows:

§ 319.37-8 Growing media.

* * * * *

(Approved by the Office of Management and Budget under control numbers 0579-0190, 0579-0439, 0579-0454, 0579-0458, and 0579-0463)

Done in Washington, DC, this 9th day of March 2018.
Kevin Shea,
Administrator, Animal and Plant Health Inspection Service.

[FR Doc. 2018-05267 Filed 3-14-18; 8:45 am]

BILLING CODE 3410-34-P